SURFACE TRANSPORTATION BOARD

Office of Environmental Analysis

[Finance Docket 36095]

Notice of Availability of the Draft Environmental Assessment (Draft EA) for Palmetto Railways Camp Hall Rail Line

AGENCY: Surface Transportation Board (Board) Office of Environmental Analysis (OEA), U.S. Army Corps of Engineers (Corps), joint lead agencies; U.S. Coast Guard (Coast Guard), Federal Railroad Administration (FRA), cooperating agencies.

ACTION: Notice of Availability of the Draft EA on November 30, 2018 and request for comments.

SUMMARY: On August 3, 2017, Palmetto Railways (Applicant) filed an exemption petition with the Board pursuant to 49 U.S.C. 10502 to construct and operate approximately 28 miles of new rail line between the Cross Subdivision of CSX Transportation, Inc. (CSXT) rail network near the Santee Cooper Cross Generating Station and the Camp Hall Commerce Park in Berkeley County, South Carolina. Implementation of the proposed rail line would bring industrial rail service to the Volvo Cars facility, as well as areas being developed by Santee Cooper. FRA and the Coast Guard are cooperating agencies in the preparation of this Draft EA pursuant to CEQ NEPA implementing regulations (40 CFR 1501.6).

The purpose of this Notice of Availability (NOA) is to notify individuals and agencies interested in or affected by the proposed action of the availability of the Draft EA for review and comment on November 30, 2018. The Draft EA analyzes the potential environmental impacts of the proposed action and alternatives, including the no-action alternative. The Draft EA addresses environmental issues and concerns identified during the scoping process. It also contains OEA's preliminary recommendations for environmental mitigation measures, and Palmetto Railways' voluntary mitigation measures.

The Draft EA will be available on November 30, 2018 through the Board's website at http://www.stb.gov by following the decisions link, through the project website at http://www.CampHallRailNEPA.com, and at all public libraries in Berkeley County, South Carolina.

Next Steps: Following the close of the 30-day comment period on December 30, 2018 of the Draft EA, OEA, the Corps, and the cooperating agencies will issue a Final EA that considers comments on the Draft EA. The Board will then issue a final decision based on the Draft and Final EAs and all public and agency comments in the public record for this proceeding. The final decision will address the transportation merits of the proposed project and the entire environmental record. That final decision will take one of three actions: Approve the proposed project, deny it, or approve it with mitigation conditions, including environmental conditions.

Written Comments: Any interested party may submit written comments on the Draft EA. The procedures for submitting written comments are outlined below:

ADDRESSES: Please mail written comments on the Draft EA and the recommended environmental mitigation to: Ms. Diana Wood, Surface Transportation Board, Docket No. FD 36095, c/o ICF, 9300 Lee Highway, Fairfax, VA 22031. Electronic comments on this Draft EA may also be submitted electronically on the joint lead agencies' project website (http://www.CampHallRailNepa.com) or emailed to CampHallRailLineNEPA@icf.com. Please refer to Docket No. FD 36095 in all correspondence, including electronic, addressed to the joint lead agencies.

DATES: The EA will be available for public review and comment on November 30, 2018. Mailed comments must be postmarked by December 30, 2018. Electronic comments must be received by December 30, 2018.

FOR FURTHER INFORMATION CONTACT: Diana Wood, Surface Transportation Board, Docket No. FD 36095, c/o ICF, 9300 Lee Highway, Fairfax, VA 22031.

Dated: November 15, 2018.
By the Board, Victoria Ruston, Director, Office of Environmental Analysis.
Jeffrey Herzig,
Clearance Clerk.

[FR Doc. 2018-25446 Filed 11-29-18; 8:45 am]

BILLING CODE 4915-01-P